FEDERAL EMERGENCY MANAGEMENT AGENCY

Agency Information Collection Activities: Proposed Collection; Comment Request

ACTION: Notice and request for comments.

SUMMARY: The Federal Emergency Management Agency, as part of its continuing effort to reduce paperwork and respondent burden, invites the general public and other Federal agencies to take this opportunity to comment on a revision of a currently approved information collection. In accordance with the Paperwork Reduction Act of 1995 (44 U.S.C. 3506(c)(2)(A)), this notice seeks comments concerning State Plans for the administration of the Individual and Family Grant Program.

SUPPLEMENTARY INFORMATION: The State Administrative Plan for the Individual and Family Grant Program was established under the Robert T. Stafford Disaster Relief and Emergency Assistance Act, Pub. L. 93-288 as amended, section 411(a), and its implementing federal regulation 44 CFR 206.131. The Governor of a State administers the grant program in a State. The plan forms an agreement between the State and the Federal Emergency Management Agency (FEMA) to administer Individual Family Grants (IFG) according to national criteria, standards, and procedures for determination of disaster victims eligibility. The IFG program is intended to provide funds to individuals or families with disaster-related necessary expenses or serious needs, who are unable to meet such expenses or needs through other means.

Collection of Information

Title: State Administrative Plans for the Individual and Family Grant Program.

Type of Information Collection: Extension of a current approved collection.

OMB Number: 3067-0146.

Form Numbers: None.

Abstract: The Governor is required by law to administer the IFG Program and FEMA is required to publish regulations and procedures. FEMA carries out its role by requiring a State Plan which conforms to the regulations while allowing individual State procedural variations.

Affected Public: State, Local or Tribal Government.

Estimated Total Annual Burden Hours
FEMA forms | Number of respondents (A) | Frequency of response (B) | Hours per response (C) | Annual burden hours (A × B × C)
| 56 | 1 | 3 | 168
Total | 56 | 1 | 3 | 168

Estimated Cost: The average salary level for a State employee at a GS-9 to update a State Plan is estimated to be $2,773.68

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments to Muriel B. Anderson, Chief, Records Management Section, Program Services and Systems Branch, Facilities Management and Services Division, Administration and Resource Planning Directorate, Federal Emergency Management Agency, 500 C Street, SW., Room 316, Washington, DC 20472. Telephone number (202) 646-2625. Fax number (202) 646-3524.

FOR FURTHER INFORMATION CONTACT: Contact Sharon Hordesky, Emergency Management Specialist, Response and Recovery Directorate, Community and Family Services Branch, (202) 646-2778 for additional information. Contact Ms. Anderson at (202) 646-2625 for copies of the proposed collection of information or facsimile number (202) 646-3347 or e-mail address: information collections@fema.gov.

Dated: July 30, 2002.
Reginald Trujillo,
Director, Program Services and Systems Branch, Facilities Management and Services Division, Administration and Resource Planning Directorate.

[FR Doc. 02-19756 Filed 8-5-02; 8:45 am]

BILLING CODE 6718-01-P